DEPARTMENT OF COMMERCE

National Oceanic and Atmospheric Administration

50 CFR Part 679

[Docket No. 051205324-5324-01; I.D. 112805B]

Fisheries of the Exclusive Economic Zone Off Alaska; Bering Sea and Aleutian Islands; 2006 and 2007 Proposed Harvest Specifications for Groundfish

Correction

In proposed rule document 05-24168 beginning on page 74723 in the issue of Friday, December 16, 2005, make the following correction:

On page 74726, in Table 1., under the heading “2007” under the column “CDQ³” in the fifth line, “44490” should read “90”.

[FR Doc. C5-24168 Filed 1-3-06; 8:45 am]

BILLING CODE 1505-01-D